DEPARTMENT OF AGRICULTURE

Creation of a New Computer Matching Program That Will Expire on December 31, 2013

AGENCY: USDA; Office of the Chief Financial Officer, National Finance Center.

ACTION: Notice.

SUMMARY: In accordance with the provisions of the Privacy Act, as amended, this notice announces the creation of a new computer matching program that we will conduct with the U.S. Office of Personnel Management (OPM), The Social Security Administration (SSA), and the Department of Agriculture's National Finance Center (NFC). Privacy Act of 1974, as Amended; Computer Matching Program (SSA/U.S. Office of Personnel Management (OPM)/U.S. Department of Agriculture's National Finance Center (NFC))—Match Number SSA# 1011.

DATES: The effective date of this matching program is August 13, 2010, provided that the following notice periods have lapsed: 30 days after publication of this notice in the Federal Register and 40 days after notice of the matching program is sent to Congress and OMB.

ADDRESSES: Interested parties may comment on this notice by either telefaxing to (202)-720-3445 or writing to the Chief Privacy Officer, Ravoyne Payton, Office of the Chief Information Officer, 1400 Independence Avenue, SW., Room 224-W, Washington, DC 20250.

All comments received will be available for public inspection at this address.

FOR FURTHER INFORMATION CONTACT: Chief Privacy Officer, Ravoyne Payton, Office of the Chief Information Officer, 1400 Independence Avenue, SW., Room 224-W, Washington, DC 20250.

SUPPLEMENTARY INFORMATION: We will file a report of the subject matching program with the Committee on Homeland Security and Governmental Affairs of the Senate; the Committee on Oversight and Government Reform of the House of Representatives, and the Office of Information and Regulatory Affairs, Office of Management and Budget (OMB). The matching program will be effective as indicated below.

A. General

The Computer Matching and Privacy Protection Act of 1988 (Pub. L. 100-503), amended the Privacy Act (5 U.S.C. 552a) by describing the conditions under which computer matching involving the Federal government could be performed and adding certain protections for persons applying for, and receiving, Federal benefits. Section 7201 of the Omnibus Budget Reconciliation Act of 1990 (Pub. L. 101-508) further amended the Privacy Act regarding protections for such persons.

The Privacy Act, as amended, regulates the use of computer matching by Federal agencies when records in a system of records are matched with other Federal, State, or local government records. It requires Federal agencies involved in computer matching programs to:

(1) Negotiate written agreements with the other agency or agencies participating in the matching programs;

(2) Obtain the approval of the matching agreement by the Data Integrity Boards (DIB) of the participating Federal agencies;

(3) Publish notice of the computer matching program in the Federal Register;

(4) Furnish detailed reports about matching programs to Congress and OMB;

(5) Notify applicants and beneficiaries that their records are subject to matching; and

(6) Verify match findings before reducing, suspending, terminating, or denying a person's benefits or payments.

B. SSA Computer Matches Subject to the Privacy Act

We have taken action to ensure that all of our computer matching programs comply with the requirements of the Privacy Act, as amended.

Notice of Computer Matching Program, SSA With the United States Department of Agriculture (USDA), National Finance Center (NFC)

A. Participating Agencies

SSA, OPM, and USDA-NFC.

B. Purpose of the Matching Program

The purpose of this matching program is to ensure that individuals eligible for the Pre-Existing Condition Insurance Plan (PCIP) are citizens or nationals of the United States or lawfully present in the United States. We will confirm the consistency of the information of the applicant against other federal records or systems.

C. Authority for Conducting the Matching Program

The legal authority for conducting the matching program is section 1411(c)(2)(A)(i) and (ii) of the PPACA, section 1106 of the Social Security Act (42 U.S.C. 1306(b)), section 1101 of the Affordable Care Act, 5 U.S.C. 552a(b)(3) of the Privacy Act, and the regulations and guidance promulgated thereunder.

D. Categories of Records and Persons Covered by the Matching Program

We will use the following categories of records to perform the matching program:

• Name

• Address

• Date of Birth

• Social Security Number, and

• Tax Identification Number

E. Inclusive Dates of the Matching Program

The effective date of this matching program is August 15, 2010, provided that the following notice periods have lapsed: 30 days after publication of this notice in the Federal Register and 40 days after notice of the matching program is sent to Congress and OMB. The matching program will continue for 18 months from the effective date and may be extended for an additional 12 months thereafter, if certain conditions are met.

Dated: July 12, 2010.
Karen Ross,
Chief of Staff, Office of the Secretary, Department of Agriculture.

[FR Doc. 2010-17284 Filed 7-12-10; 4:15 pm]

BILLING CODE 3410-90-P